OVERSEAS PRIVATE INVESTMENT CORPORATION

Sunshine Act Meeting Notice; December 6, 2012 Board of Directors Meeting

TIME AND DATE: Thursday, December 6, 2012, 10 a.m. (OPEN Portion) 10:15 a.m. (CLOSED Portion)

PLACE: Offices of the Corporation, Twelfth Floor Board Room, 1100 New York Avenue NW., Washington, DC.

STATUS: Meeting OPEN to the Public from 10 a.m. to 10:15 a.m. Closed portion will commence at 10:15 a.m. (approx.)

Matters To Be Considered

1. President's Report

2. Minutes of the Open Session of the September 13, 2012 Board of Directors Meeting

Further Matters To Be Considered (Closed to the Public 10:15 a.m.)

1. Finance Project—Nigeria

2. Finance Project -Africa

3. Finance Project—Russia

4. Minutes of the Closed Session of the September 13, 2012 Board of Directors Meeting

5. Reports

6. Pending Major Projects

Written summaries of the projects to be presented have be posted on OPIC's web site.

CONTACT PERSON FOR INFORMATION: Information on the meeting may be obtained from Connie M. Downs at (202) 336-8438.

Dated: November 19, 2012.
Connie M. Downs,
Corporate Secretary, Overseas Private Investment Corporation.

[FR Doc. 2012-28416 Filed 11-19-12; 4:15 pm]

BILLING CODE 3210-01-P